DEPARTMENT OF TRANSPORTATION

Federal Aviation Administration

14 CFR Part 71

[Docket No. FAA-2021-0940; Airspace Docket No. 21-ASO-12]

RIN 2120-AA66

Amendment and Removal of Area Navigation (RNAV) Routes; South-Central FL Metroplex Project.

AGENCY: Federal Aviation Administration (FAA), DOT.

ACTION: Final rule.

SUMMARY: This action amends low altitude United States Area Navigation (RNAV) route, T-208 in support of the South-Central FL Metroplex Project. Other route changes that were proposed in the NPRM are being deferred to a later date.

DATES: Effective date 0901 UTC, May 19, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2021-0940, in the Federal Register (86 FR 61724; November 8, 2021), amending 11 T-routes, and removing one T-route. Interested parties were invited to participate in this rulemaking effort by submitting written comments on the proposal. No comments were received.

United States RNAV T-routes are published in paragraph 6011 of FAA Order JO 7400.11F, dated August 10, 2021, and effective September 15, 2021, which is incorporated by reference in 14 CFR 71.1. The RNAV route listed in this document will be subsequently published in FAA Order JO 7400.11.

Differences From the NPRM

In addition to route T-208, the NPRM proposed to amend the following routes: T-207, T-210, T-336, T-339, T-341, T-343, T-345, T-347, T-349, and T-353, and to remove T-337. Since then, the FAA has determined that additional planning and coordination is needed prior to implementing the changes to all of the above routes except for T-208. Consequently, this rule only implements the amendment of T-208. The remaining routes are delayed to a later date.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending RNAV T-route T-208 in support of the South-Central FL Metroplex Project. The route change is described below.

T-208: T-208 currently extends between the WALEE, FL, WP, and the SHANC, FL, WP. This action removes the WALEE, FL, and the MMKAY, FL, WPs from the route. The SIROC, GA, WP is added as the new start point of the route. The SAHND, FL, WP is added between the SIROC, GA, and the FOXAM, FL, WPs. After the FOXAM, FL, WP, T-208 proceeds to the SHANC, FL, Fix, as currently depicted on the IFR Low Altitude Chart.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending T-208, as described above, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-208 SIROC, GA to SHANC, FL [Amended]
SIROC, GA | WP | (Lat. 31°03′02.32″ N, long. 081°26′45.89″ W)
SAHND, FL | WP | (Lat. 30°25′45.91″ N, long. 081°24′34.99″ W)
FOXAM, FL | WP | (Lat. 29°33′37.73″ N, long. 081°09′37.84″ W)
SUUGR, FL | WP | (Lat. 29°19′40.38″ N, long. 081°07′20.79″ W)
SMYRA, FL | Fix | (Lat. 29°00′19.48″ N, long. 080°59′34.51″ W)
OAKIE, FL | Fix | (Lat. 28°51′04.26″ N, long. 080°55′52.35″ W)
MALET, FL | Fix | (Lat. 28°41′29.90″ N, long. 080°52′04.30″ W)
TICCO, FL | Fix | (Lat. 28°31′00.50″ N, long. 080°47′52.80″ W)
INDIA, FL | Fix | (Lat. 28°26′04.19″ N, long. 080°45′55.25″ W)
DIMBY, FL | WP | (Lat. 28°04′52.54″ N, long. 080°37′37.61″ W)
VALKA, FL | Fix | (Lat. 27°55′06.06″ N, long. 080°34′17.17″ W)
SULTY, FL | WP | (Lat. 27°48′12.41″ N, long. 080°32′59.17″ W)
WIXED, FL | WP | (Lat. 27°41′24.86″ N, long. 080°29′56.56″ W)
CLEFF, FL | WP | (Lat. 27°00′03.31″ N, long. 080°32′38.27″ W)
DURRY, FL | WP | (Lat. 26°43′46.96″ N, long. 080°24′09.25″ W)
BOBOE, FL | WP | (Lat. 26°28′48.72″ N, long. 080°23′05.23″ W)
SHANC, FL | Fix | (Lat. 26°18′51.14″ N, long. 080°20′00.16″ W)

* * * * *

Issued in Washington, DC, on March 9, 2022.
Scott M. Rosenbloom,
Manager, Airspace Rules and Regulations.

[FR Doc. 2022-05339 Filed 3-14-22; 8:45 am]

BILLING CODE 4910-13-P